DEPARTMENT OF AGRICULTURE

Forest Service

Wallowa-Whitman National Forest, OR; Westside Rangeland Analysis

AGENCY: Forest Service, USDA.

ACTION: Notice of Intent To Prepare an Environmental Impact Statement.

SUMMARY: The USDA, Forest Service will prepare an environmental impact statement to authorize livestock grazing within the Westside Rangeland Analysis Area on the Wallowa Valley Ranger District of the Wallowa-Whitman National Forest.

DATES: Written comments concerning the proposed action should be received by February 11, 2008. Send written comments and suggestions to Wallowa Valley District Ranger, Wallowa-Whitman National Forest, 88401 Highway 82, Box A, Enterprise, OR 97828.

FOR FURTHER INFORMATION CONTACT: Alicia Glassford, Interdisciplinary Team Leader, Wallowa-Whitman National Forest, Wallowa Mountains Office, 88401 Hwy 82, Box A, Enterprise, OR, Phone: (541) 426-5689.

SUPPLEMENTARY INFORMATION:

Purpose and Need

The purpose of and need for this action is to allocate forage for commercial livestock grazing. The Wallowa-Whitman National Forest Land and Resource Management Plan allows for livestock forage production where forage is in excess to basic plant and soil needs, wildlife needs, and where other specific resource conditions are to be achieved or maintained. While livestock grazing has been ongoing for many years in the Westside Rangeland Analysis Area, this grazing has been addressed through annual operating instructions which have not been subjected to a National Environmental Policy Act (NEPA) analysis process. Thus, the NEPA process for this group of allotments is being initiated.

Proposed Action

The Westside Rangeland Analysis Area (63,507 acres) is located approximately 20 miles north of Enterprise, Oregon and is the portion of National Forest System lands within the Wallowa Valley Ranger District generally located west of State Highway 3. The proposal will result in Allotment Management Plans for the six allotments within the Westside Rangeland Analysis Area: Buck Creek Allotment, Day Ridge Allotment, Mud Creek Allotment, North Powwatka Allotment, South Powwatka Allotment, and Tope Creek Allotment. Specific elements of the Proposed Action are as follows:

Authorize a total of 1579 head-months of livestock grazing on the 22,718-acre Buck Creek Allotment between June 1 and October 31.

Authorize a total of 100 head-months of livestock grazing on the 2,765-acre Day Ridge Allotment between May 15 and June 15.

Authorize a total of 3,528 head-months of livestock grazing on the 11,032-acre Mud Creek Allotment between May 15 and September 15.

Authorize a total of 774 head-months of livestock grazing on the 8074-acre North Powwatka Allotment between April 15 and November 15.

Authorize a total of 1171 head-months of livestock grazing on the 11,455-acre South Powwatka Allotment between June 1 and October 31.

Authorize a total of 429 head-months of livestock grazing on the 7,463-acre Tope Creek Allotment between June 1 and September 30.

Responsible Official

The Wallowa Valley District Ranger, Barbara C. Van Alstine, will be the responsible official for making the decision and providing direction for the analysis.

Nature of Decision To Be Made

The responsible official will decide whether or not to authorize commercial livestock grazing within the Westside Rangeland Area. The responsible official will also decide whether or not to select the proposed action as stated or modified, or to select an alternative to it, any mitigation measures needed and any monitoring that may be required.

Scoping Process

This notice of intent begins the scoping process in the development of the environmental impact statement. Public participation is especially important at several points during the development of the EIS. The Forest Service is seeking information, comments, and coordination with the Federal, State, and local agencies and tribal governments and individuals or organizations who may be interested in or affected by the proposed action. The public is asked to provide the responsible official with written comments describing their concerns about this project. The most useful comments to developing or refining the proposed action would be site specific concerns and those that pertain to authorizing livestock grazing within the Westside Rangeland Analysis Area that meets the Purpose of and Need for Action. See DATES above for the mailing address for written comments.

Early Notice of Importance of Public Participation in Subsequent Environmental Review

The draft environmental impact statement is expected to be filed with the Environmental Protection Agency (EPA) and to be available to the public for review by May 2008. EPA will publish a notice of availability of the draft EIS in the Federal Register. The comment period on the draft EIS will extend 45 days from the date the EPA notice appears in the Federal Register. At that time, copies of the draft EIS will be distributed to interested and affected agencies, organizations, and members of the public for their review and comment. It is very important that those interested in the management of the Wallowa-Whitman National Forest participate at that time.

The final EIS is scheduled to be completed in September 2008. In the final EIS, the Forest Service is required to respond to substantive comments received during the comment period that pertain to the environmental consequences discussed in the draft EIS and applicable laws, regulations, and policies considered in making the decision regarding authorization of livestock grazing. To assist the Forest Service in identifying and considering issues and concerns on the proposed action, comments on the draft environmental impact statement should be as specific as possible. It is helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Substantive comments are defined as “comments within the scope of the proposed action, specific to the proposed action, and have a direct relationship to the proposed action, and include supporting reasons for the Responsible Official to consider (36 CFR 215.2). Submission of substantive comments is a prerequisite for eligibility to appeal under the 36 CFR part 215 regulations.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

Comments received, including the names and addresses of those who comment, will be considered part of the public record on this proposal and will be available for public inspection.

(Authority: 40 CFR 1501.7 and 1508.22; Forest Service Handbook 1909.15, Section 21)

Dated: December 20, 2007.
Barbara C. Van Alstine,
Wallowa Valley District Ranger.

[FR Doc. 08-17 Filed 1-7-08; 8:45 am]

BILLING CODE 3410-11-M